DEPARTMENT OF THE INTERIOR

Minerals Management Service

Gulf of Mexico (GOM), Outer Continental Shelf (OCS), Central Planning Area (CPA) and Western Planning Area (WPA), Oil and Gas Lease Sales for Years 2009-2012

AGENCY: Minerals Management Service (MMS), Interior.

ACTION: Notice of Availability (NOA) of the Final Supplemental Environmental Impact Statement (SEIS).

SUMMARY: The MMS has prepared a SEIS on oil and gas lease sales tentatively scheduled in 2009-2012 in the CPA and WPA offshore the States of Texas, Louisiana, Mississippi, and Alabama. As mandated in the Gulf of Mexico Energy Security Act of 2006 (GOMESA) (Pub. L. 109-432, December 20, 2006), MMS shall offer, as soon as practicable, approximately 5.8 million acres located in the southeastern part of the CPA (“181 South Area”). The CPA Sale 208 (March 2009) will be the first sale to include the “181 South Area.” The SEIS analyzed newly available information for the potential environmental effects of oil and natural gas leasing, exploration, development, and production in the “181 South Area.”

Authority: This NOA is published pursuant to the regulations (40 CFR 1503) implementing the provisions of the National Environmental Policy Act (NEPA) of 1969, as amended (42 U.S.C. 4321 et seq. (1988)).

SUPPLEMENTARY INFORMATION: As mandated in GOMESA, MMS shall offer the “181 South Area” for oil and gas leasing pursuant to the OCS Lands Act (43 U.S.C. 1331 et seq.). In March 2009, proposed Lease Sale 208 would be the first CPA sale to offer the “181 South Area.” The SEIS supplements the Gulf of Mexico OCS Oil and Gas Lease Sales: 2007-2012; Western Planning Area Sales 204, 207, 210, 215, and 218; Central Planning Area Sales 205, 206, 208, 213, 216, and 222, Final Environmental Impact Statement (OCS EIS/EA MMS 2007-018, Multisale EIS). The Multisale EIS did not analyze the “181 South Area”; therefore, MMS has prepared a SEIS to address the addition of the “181 South Area” to the proposed CPA sale area. Also, an extensive search was conducted for new information published since completion of the Multisale EIS, including various Internet sources, scientific journals, interviews with personnel from academic institutions, and Federal, State, and local agencies.

Based on new information and the expanded CPA sale area, MMS has reexamined potential impacts of routine activities and accidental events associated with the proposed CPA and WPA lease sales, and a proposed lease sale's incremental contribution to the cumulative impacts on environmental and socioeconomic resources. Like the Multisale EIS, the resource estimates and scenario information for the SEIS analyses are presented as a range that would encompass the resources and activities estimated for any of the seven proposed lease sales.

Final SEIS Availability: To obtain a single, printed or CD-ROM copy of the final SEIS, you may contact the Minerals Management Service, Gulf of Mexico OCS Region, Public Information Office (MS 5034), 1201 Elmwood Park Boulevard, Room 114, New Orleans, Louisiana 70123-2394 (1-800-200-GULF). An electronic copy of the Final EIS is available at the MMS's Internet Web site at http://www.gomr.mms.gov/homepg/regulate/environ/nepa/nepaprocess.html. Several libraries along the Gulf Coast have been sent copies of the SEIS. To find out which libraries, and their locations, have copies of the SEIS for review, you may contact the MMS's Public Information Office or visit the MMS Internet Web site at http://www.gomr.mms.gov/homepg/regulate/environ/libraries.html.

FOR FURTHER INFORMATION CONTACT: For more information on the SEIS or the public hearings, you may contact Dennis Chew, Minerals Management Service, Gulf of Mexico OCS Region, 1201 Elmwood Park Boulevard (MS 5412), New Orleans, Louisiana 70123-2394, or by e-mail at environment@mms.gov. You may also contact Mr. Chew by telephone at (504) 736-2793.

Dated: September 25, 2008.
Chris Oynes,
Associate Director for Offshore Minerals Management.

[FR Doc. E8-23372 Filed 10-2-08; 8:45 am]

BILLING CODE 4310-MR-P